DEPARTMENT OF THE INTERIOR

National Park Service

[NPS-NERO-ACAD-14782; PPNEACADSO, PPMPSPDIZ.YM0000]

Notice of Meeting of the Acadia National Park Advisory Commission

AGENCY: National Park Service, Interior.

ACTION: Meeting notice.

SUMMARY: This notice sets forth the date of the next meeting of the Acadia National Park Advisory Commission.

DATES: The public meeting of the Acadia National Park Advisory Commission will be held on Monday, February 3, 2014, at 1:00 p.m. (EASTERN).

ADDRESSES: The meeting will be held at the Acadia National Park headquarters conference room, 20 McFarland Hill Drive, Bar Harbor, Maine 04609.

Agenda

The commission meeting will consist of the following:

1. Committee Reports:

• Land Conservation

• Park Use

• Science and Education

• Historic

2. Old Business

3. Superintendent's Report

4. Chairman's Report

5. Public Comments

6. Adjournment

FOR FURTHER INFORMATION CONTACT: Sheridan Steele, Superintendent, Acadia National Park, P.O. Box 177, Bar Harbor, Maine 04609; telephone (207) 288-8702.

SUPPLEMENTARY INFORMATION: The meeting is open to the public. Interested persons may make oral or written presentations to the Commission or file written statements. Such requests should be made to the Superintendent at least seven days prior to the meeting. Be aware that your entire comment, including your personal identifying information, may be made publicly available at any time. While you may request that your personal identifying information be withheld from the public, we cannot guarantee that we will be able to do so.

Dated: January 15, 2014.
Alma Ripps,
Chief, Office of Policy.

[FR Doc. 2014-01077 Filed 1-17-14; 8:45 am]

BILLING CODE 4310-WV-P